ENVIRONMENTAL PROTECTION AGENCY

[FRL-7626-9]

Generic Ecological Assessment Endpoints

AGENCY: Environmental Protection Agency.

ACTION: Notice of Availability.

SUMMARY: This notice announces the availability of a final report titled, Generic Ecological Assessment Endpoints (EPA/630/P-02-004F), which was prepared by a U.S. Environmental Protection Agency Risk Assessment Forum Technical Panel.

DATES: This document will be available on or about February 25, 2004.

ADDRESSES: The document will be made available electronically through the RAF web site (http://cfpub.epa.gov/ncea/raf/recordisplay.cfm?deid=55131.) A limited number of paper copies will be available from the EPA's National Service Center for Environmental Publications (NSCEP), P.O. Box 42419, Cincinnati, OH 45242; telephone: 1-800-490-9198 or 513-489-8190; facsimile: 513-489-8695. Please provide your name, your mailing address, the title and the EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

SUPPLEMENTARY INFORMATION: Ecological risk assessment is a process for evaluating the likelihood that adverse ecological effects may occur or are occurring as a result of exposure to one or more stressors. A critical early step in conducting an ecological risk assessment is deciding which aspects of the environment will be selected for evaluation. This step is often challenging because of the remarkable diversity of species, ecological communities, and ecological functions from which to choose and because of statutory ambiguity regarding what is to be protected.

The purpose of this document is to build on existing EPA guidance and experience to assist those who are involved in ecological risk assessments in carrying out this step, which in the parlance of ecological risk assessment is termed “selecting assessment endpoints.” The document describes a set of endpoints, known as generic ecological assessment endpoints (GEAEs), that can be considered and adapted for specific ecological risk assessments. The document is intended to enhance the application of ecological risk assessment at EPA, thereby improving the scientific basis for ecological risk management decisions. However, the document is not a regulation, nor is it intended to substitute for federal regulations. It describes general principles and is not prescriptive. Rather, it is intended to be a useful starting point that is flexible enough to be applied to many different types of ecological risk assessments. Risk assessors and risk managers at EPA are the primary audience; the document also may be useful to others outside the Agency.

Dated: February 19, 2004.
P. W. Preuss,
Director, National Center for Environmental Assessment.

[FR Doc. 04-4129 Filed 2-24-04; 8:45 am]

BILLING CODE 6560-50-P